DEPARTMENT OF TRANSPORTATION

Federal Aviation Administration

14 CFR Part 39

[Docket No. 99-NM-90-AD]

RIN 2120-AA64

Airworthiness Directives; McDonnell Douglas Model DC-9 Airplanes and Model MD-88 Airplanes

AGENCY: Federal Aviation Administration, DOT.

ACTION: Notice of proposed rulemaking (NPRM); reopening of the comment period.

SUMMARY: This document extends the period for public comment on the above-referenced NPRM that would apply to certain McDonnell Douglas Model DC-9 airplanes and Model MD-88 airplanes. The NPRM proposes to require replacement of certain power relays, and subsequent repetitive cleaning, inspecting, repairing, and testing of certain replaced power relays. The NPRM is prompted by reports indicating that the alternating current (AC) cross-tie relay shorted out internally, which caused severe smoke and burn damage to the relay, aircraft wiring, and adjacent panels. This extension of the comment period is necessary to assure that all interested persons have ample opportunity to present their views on the proposed requirements of the NPRM.

DATES: Comments must be received by August 26, 2002.

ADDRESSES: Submit comments in triplicate to the Federal Aviation Administration (FAA), Transport Airplane Directorate, ANM-114, Attention: Rules Docket No. 99-NM-90-AD, 1601 Lind Avenue, SW., Renton, Washington 98055-4056. Comments may be inspected at this location between 9:00 a.m. and 3:00 p.m., Monday through Friday, except Federal holidays. Comments may be submitted via fax to (425) 227-1232. Comments may also be sent via the Internet using the following address: 9-anm-nprmcomment@faa.gov. Comments sent via fax or the Internet must contain “Docket No. 99-NM-90-AD” in the subject line and need not be submitted in triplicate. Comments sent via the Internet as attached electronic files must be formatted in Microsoft Word 97 for Windows or ASCII text.

FOR FURTHER INFORMATION CONTACT: Elvin Wheeler, Aerospace Engineer, Systems and Equipment Branch, ANM-130L, FAA, Los Angeles Aircraft Certification Office, 3960 Paramount Boulevard, Lakewood, California 90712-4137; telephone (562) 627-5344; fax (562) 627-5210.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 99-NM-90-AD.” The postcard will be date stamped and returned to the commenter.

Events Leading to This Extension of the Comment Period

A proposal to amend part 39 of the Federal Aviation Regulations (14 CFR part 39) to include an AD that would apply to certain McDonnell Douglas Model DC-9 airplanes and Model MD-88 airplanes was published as a second supplemental notice of proposed rulemaking (NPRM) in the Federal Register on July 1, 2002 (67 FR 44119). The second supplemental NPRM proposed to require replacement of certain power relays, and subsequent repetitive cleaning, inspecting, repairing, and testing of certain replaced power relays.

The FAA has received a request from the National Transportation Safety Board (NTSB) to extend the comment period of the second supplemental NPRM by three weeks to allow additional time to prepare comments. The FAA has considered this request and finds it appropriate to extend the comment period to give all interested persons more time to examine the proposed requirements of the second supplemental NPRM and to submit comments. In light of the fact that some of the additional time requested to prepare comments has passed, we have determined that extending the comment period by 7 days after date of publication in the Federal Register is appropriate, and that such an extension will not compromise the safety of these airplanes.

The Extension

The comment period for Docket No. 99-NM-90-AD is hereby extended to August 26, 2002.

Since no portion of the second supplemental NPRM or other regulatory information has been changed, that entire NPRM is not being republished.

Issued in Renton, Washington, on August 12, 2002.
Ali Bahrami,
Acting Manager, Transport Airplane Directorate, Aircraft Certification Service.

[FR Doc. 02-20932 Filed 8-16-02; 8:45 am]

BILLING CODE 4910-13-P